DEPARTMENT OF COMMERCE

National Oceanic and Atmospheric Administration

[RTID 0648-XV153]

Pacific Fishery Management Council; Public Meetings and Hearings

AGENCY: National Marine Fisheries Service (NMFS), National Oceanic and Atmospheric Administration (NOAA), Commerce.

ACTION: Notice of availability of reports; public meetings, and hearings.

SUMMARY: The Pacific Fishery Management Council (Pacific Council) has begun its annual preseason management process for the 2020 ocean salmon fisheries. This document announces the availability of Pacific Council documents, as well as the dates and locations of upcoming Pacific Council meetings and public hearings hosted by the Pacific Council. These documents and events comprise the Pacific Council's complete schedule for determining the annual proposed and final modifications to ocean salmon fishery management measures. The agendas for the March and April 2020 Pacific Council meetings will be published in subsequent Federal Register documents prior to the actual meetings.

DATES: Written comments on the salmon management alternatives must be received by 5 p.m. Pacific Standard Time, March 27, 2020.

ADDRESSES: Documents will be available from the Pacific Fishery Management Council, 7700 NE Ambassador Place, Suite 101, Portland, OR 97220-1384; telephone: (503) 820-2280 (voice) or (503) 820-2299 (fax). Written comments should be sent electronically to Mr. Phil Anderson, Chair, Pacific Fishery Management Council, via the Pacific Council's E-Portal by visiting https://pfmc.psmfc.org. Comments can also be submitted through the Federal Rulemaking E-Portal: http://www.regulations.gov. Follow the instructions for submitting comments, and include the I.D. number in the subject line of the message. If you are unable to access either E-Portal, written comments may be mailed to Mr. Phil Anderson at the Pacific Fishery Management Council office address stated above. Written comments will then be entered into the Pacific Council's E-Portal by Council staff. For specific meeting and hearing locations, see SUPPLEMENTARY INFORMATION.

Council address: Pacific Fishery Management Council, 7700 NE Ambassador Place, Suite 101, Portland, OR 97220.

FOR FURTHER INFORMATION CONTACT: Ms. Robin Ehlke, telephone: (503) 820-2280.

SUPPLEMENTARY INFORMATION:

Tentative Schedule for Document Completion and Availability

February 14, 2020: “Review of 2019 Ocean Salmon Fisheries, Stock Assessment and Fishery Evaluation Document for the Pacific Coast Salmon Fishery Management Plan” is scheduled to be posted on the Pacific Council website at http://www.pcouncil.org.

February 28, 2020: “Preseason Report I—Stock Abundance Analysis and Environmental Assessment Part 1 for 2020 Ocean Salmon Fishery Regulations” is scheduled to be posted on the Pacific Council website at http://www.pcouncil.org.

March 20, 2020: “Preseason Report II—Proposed Alternatives and Environmental Assessment Part 2 for 2020 Ocean Salmon Fishery Regulations”. The report will include a description of the adopted salmon management alternatives and a summary of their biological and economic impacts. The public hearings schedule will also be included on the inside cover of the report and will be posted on the Pacific Council website at http://www.pcouncil.org.

April 16, 2020: “Preseason Report III—Council-Adopted Management Measures and Environmental Assessment Part 3 for 2020 Ocean Salmon Fishery Regulations” is scheduled to be posted on the Pacific Council website at http://www.pcouncil.org.

May 1, 2020: Federal regulations for 2020 ocean salmon regulations are published in the Federal Register and implemented.

Meetings and Hearings

January 21-24, 2020: The Salmon Technical Team (STT) will meet at the Pacific Council office in a public work session to draft “Review of 2019 Ocean Salmon Fisheries, Stock Assessment and Fishery Evaluation Document for the Pacific Coast Salmon Fishery Management Plan” and to consider any other estimation or methodology issues pertinent to the 2020 ocean salmon fisheries. The STT may also discuss additional topics and work as time allows, including but not limited to the Fishery Management Plan Amendment 20, the methodology review on Willapa Bay coho abundance forecasts, and Klamath Dam removal.

February 18-21, 2020: The STT will meet at the Pacific Council office in a public work session to draft “Preseason Report I—Stock Abundance Analysis and Environmental Assessment Part 1 for 2020 Ocean Salmon Fishery Regulations” and to consider any other estimation or methodology issues pertinent to the 2020 ocean salmon fisheries. The STT may also discuss additional topics as time allows, including but not limited to the Fishery Management Plan Amendment 20, the methodology review on Willapa Bay coho abundance forecasts, and Klamath Dam removal.

March 23-24, 2020: Public hearings will be held to receive comments on the proposed ocean salmon fishery management alternatives adopted by the Pacific Council. Written comments received at the public hearings and a summary of oral comments heard at the hearings will be provided to the Pacific Council at its April meeting.

All public hearings begin at 7 p.m. on the dates and locations specified below:

March 23, 2020: Chateau Westport, Beach Room, 710 West Hancock, Westport, WA 98595, telephone: (360) 268-9101.

March 23, 2020: Red Lion Hotel, South Umpqua Room, 1313 North Bayshore Drive, Coos Bay, OR 97420, telephone: (541) 267-4141.

March 24, 2020: Red Lion Hotel, Redwood Ballroom, 1929 4th Street, Eureka, CA 95501, telephone: (707) 445-0844.

Although non-emergency issues not contained in the STT meeting agendas may come before the STT for discussion, those issues may not be the subject of formal STT action during these meetings. STT action will be restricted to those issues specifically listed in this document and to any issues arising after publication of this document requiring emergency action under Section 305(c) of the Magnuson-Stevens Fishery Conservation and Management Act, provided the public has been notified of the STT's intent to take final action to address the emergency.

Special Accommodations

These public meetings and hearings are physically accessible to people with disabilities. Requests for sign language interpretation or other auxiliary aids should be directed to Mr. Kris Kleinschmidt at (503) 820-2280 (voice), or (503) 820-2299 (fax) at least ten days prior to the meeting date.

Authority: 16 U.S.C. 1801 et seq.

Dated: December 19, 2019.
Tracey L. Thompson,
Acting Deputy Director, Office of Sustainable Fisheries, National Marine Fisheries Service.

[FR Doc. 2019-27810 Filed 12-23-19; 8:45 am]

BILLING CODE 3510-22-P